DEPARTMENT OF TRANSPORTATION

Federal Aviation Administration

14 CFR Part 73

[Docket No. FAA-2003-16722; Airspace Docket No. 03-AWP-19]

RIN 2120-AA66

Establishment of Restricted Area 2503D, Camp Pendleton; CA

ACTION: Notice of proposed rulemaking (NPRM).

SUMMARY: This action proposes to establish a restricted area (R-2503D) over Camp Pendleton, CA. Specifically, this action proposes to convert the current San Onofre High and Low Military Operations Areas (MOA) and the associated Controlled Firing Area (CFA) to R-2503D. The FAA is taking this action to assist the Camp Pendleton U.S. Marine Corps (USMC) Base, CA, mission of providing realistic fleet training requirements and to enhance safety.

DATES: Comments must be received on or before May 10, 2004.

ADDRESSES: Send comments on this proposal to the Docket Management System, U.S. Department of Transportation, Room Plaza 401, 400 Seventh Street, SW., Washington, DC 20590-0001. You must identify FAA Docket No. FAA-2003-16722, and Airspace Docket No. 03-AWP-19, at the beginning of your comments. You may also submit comments on the Internet at http://dms.dot.gov.

FOR FURTHER INFORMATION CONTACT: Ken McElroy, Airspace and Rules, Office of System Operations and Safety, ATOP-R, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory aeronautical, economic, environmental, and energy-related aspects of the proposal.

Communications should identify both docket numbers (FAA Docket No. FAA-2003-16722, and Airspace Docket no. 03-AWP-19) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2003-16722, and Airspace Docket No. 03-AWP-19.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received and any final disposition in person in the Dockets Office (see ADDRESSES section for address and phone number) between 9 a.m. and 5 p.m., Monday through Friday, except Federal holidays. An informal docket may also be examined during normal business hours at the office of the Regional Air Traffic Division, AWP-520, 15000 Aviation Boulevard, Lawndale, CA 90261.

Persons interested in being placed on a mailing list for future NPRM's should contact the FAA's Office of Rulemaking, (202) 267-9677, for a copy of Advisory Circular No. 11-2A, Notice of Proposed Rulemaking Distribution System, which describes the application procedure.

The Proposal

The FAA is proposing an amendment to Title 14 Code of Federal Regulations (14 CFR) part 73 (part 73) to revise and expand the dimensions of the current San Onofre MOAs over the Camp Pendleton, CA, area. The USMC has requested these changes because the existing special use airspace does not permit essential large-scale amphibious assault activities (including artillery live-fire, fixed-wing close air support, and remotely operated aircraft operations).

The existing restricted areas over Camp Pendleton are R-2503A, extending from the surface up to 2000 feet mean sea level (MSL); R-2503B, extending from the surface up to 15,000 feet MSL; and R-2503C, extending from 15,000 feet MSL to FL 270. These areas will not be changed. The San Onofre High and Low MOAs lie adjacent to the restricted areas from 2,000 feet MSL up to, but not including 8,000 feet MSL. This proposed amendment would convert the San Onofre High and Low MOAs, and the associated CFA to R-2503D, which would extend from 2,000 feet MSL up to 11,000 feet MSL. The San Onofre MOA and CFA designations would be revoked.

The time of designation for R-2503D would be intermittent by NOTAM 24 hours in advance, and limited to a maximum use of 20 days per year from 0600 to 2400 hours local time, and no more than 90 days per year between 0001 and 0600 local time. The restricted area would be available for joint-use and scheduled for training operations on an as needed basis subject to the maximum use limits.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

This proposal will be subject to the appropriate environmental analysis in accordance with FAA Order 1050.1D, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.25 [Amended]

2. § 73.25 is amended as follows:

* * * * *

R-2503D Camp Pendleton, CA [Added]

Boundaries. Beginning at lat. 33°22′42″ N.; long. 117°36′45″ W.; to lat. 33°27′13″ N.; long. 117°34′17″ W.; to lat. 33°18′41″ N.; long. 117°23′58″ W.; to lat. 33°17′30″ N.; long. 117°16′43″ W.; to lat. 33°14′09″N.; long. 117°26′38″ W.; to the point of the beginning by following a line 1 NM from and parallel to the shoreline.

Designated altitudes. 2,000 feet MSL to 11,000 feet MSL.

Time of designation. Intermittent by NOTAM 24 hours in advance not to exceed 20 days per year from 0600 to 2400 local time and not more than 90 days per year between 0001 and 0600 local.

Controlling agency. FAA, Southern California TRACON.

Using agency. U.S. Marine Corps, Commanding General, MCB Camp Pendleton, CA.

* * * * *

Issued in Washington, DC, March 18, 2004.
Reginald C. Matthews,
Manager, Airspace and Rules.

[FR Doc. 04-6747 Filed 3-25-04; 8:45 am]

BILLING CODE 4910-13-P